Title 3—

The President

Proclamation 9369 of November 15, 2015

Honoring the Victims of the Attack in Paris, France

By the President of the United States of America

A Proclamation

The American people stand with the people of France. Friday's terror attacks were not just an attack on Paris; they were an attack on all humanity and the universal values we share, including the bonds of liberté, égalité, and fraternité. These values will endure far beyond any terrorists or their hateful vision. The United States and our allies do not give in to fear, nor will we be divided, nor will anyone change our way of life. We will do whatever it takes, working with nations and peoples around the world, to bring the perpetrators of these attacks to justice, and to go after terrorists who threaten our people.

As a mark of respect for the victims of the senseless acts of violence perpetrated on November 13, 2015, in Paris, France, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, November 19, 2015. I also direct that the flag shall be flown at half-staff for the same length of time at all United States embassies, legations, consular offices, and other facilities abroad, including all military facilities and naval vessels and stations.

IN WITNESS WHEREOF, I have hereunto set my hand this fifteenth day of November, in the year of our Lord two thousand fifteen, and of the Independence of the United States of America the two hundred and fortieth.

[FR Doc. 2015-29744

Filed 11-18-15; 11:15 am]

Billing code 3295-F6-P